DEPARTMENT OF THE INTERIOR

Bureau of Land Management

[OR-027-1020-PI-020H; G5-0034]

Notice of Call for Nominations for the Steens Mountain Advisory Council

AGENCY: Bureau of Land Management, Department of the Interior.

ACTION: Call for nominations.

SUMMARY: The Bureau of Land Management is publishing this notice under section 9 (a)(2) of the Federal Advisory Committee Act. Pursuant to the Steens Mountain Cooperative Management and Protection Act of 2000 (Pub. L. 106-399), the Bureau of Land Management gives notice that the Secretary of the Interior intends to call for nominations for vacating positions to the Steens Mountain Advisory Council. This notice requests the public to submit nominations for membership on the Steens Mountain Advisory Council.

Any individual or organization may nominate one or more persons to serve on the Steens Mountain Advisory Council. Individuals may nominate themselves or others for Steens Mountain Advisory Council membership. Nomination forms may be obtained from the Bureau of Land Management Burns District Office (see address below). To make a nomination, submit a completed nomination form, letters of reference from the represented interests or organizations, as well as any other information that speaks to the nominee's qualifications, to the Bureau of Land Management Burns District Office. Nominations may be made for the following categories of interest:

• One person who is a recognized environmental representative for the State as a whole (appointed from nominees submitted by the Governor of Oregon);

• A person interested in fish and recreational fishing (appointed from nominees submitted by the Governor of Oregon);

• A person who is a recreational permit holder or is a representative of a commercial recreation operation (appointed jointly by the Oregon State Director of the Bureau of Land Management and the county court for Harney County, Oregon);

• A private landowner in the Cooperative Management and Protection Area (appointed by the county court for Harney County, Oregon); and

• A person with expertise and interest in wild horse management on Steens Mountain (appointed by the Bureau of Land Management)

The specific category the nominee will represent should be identified in the letter of nomination. The Bureau of Land Management Burns District will collect the nomination forms and letters of reference and distribute them to the officials responsible for submitting nominations (County Court of Harney County, the Governor of Oregon, and the Bureau of Land Management). The Bureau of Land Management will then forward recommended nominations to the Secretary of the Interior, who has responsibility for making the appointments.

DATES: Nominations should be submitted to the address listed below no later than 30 days after publication of this notice.

FOR FURTHER INFORMATION CONTACT: Rhonda Karges, Management Support Specialist, Burns District Office, 28910 Hwy 20 West, Hines, Oregon 97738, (541) 573-4433, or Rhonda_Karges@or.blm.gov.

SUPPLEMENTARY INFORMATION: The purpose of the Steens Mountain Advisory Council is to advise the Bureau of Land Management on the management of the Steens Mountain Cooperative Management and Protection Area as described in Title 1, Subtitle D of Public Law 106-399. Each member will be a person who, as a result of training and experience, has knowledge or special expertise that qualifies him or her to provide advice from among the categories of interest listed above.

Members of the Steens Mountain Advisory Council are appointed for terms of three years. The State environmental representative, recreational permit holder, private landowner, and fish and recreational fishing positions will expire August 2006. These four positions will begin no earlier than August 2006 and will end August 2009. The member of the Wild Horse Management position has resigned; therefore, the newly-appointed member will complete the existing three-year term. This term will begin upon appointment and will expire August 2008.

Members will serve without monetary compensation, but will be reimbursed for travel and per diem expenses at current rates for Government employees. The Steens Mountain Advisory Council shall meet only at the call of the Designated Federal Official, but not less than once per year.

Dated: December 23, 2005.
Dana Shuford,
Burns District Manager, Bureau of Land Management, Burns, Oregon.

[FR Doc. E5-8096 Filed 12-29-05; 8:45 am]

BILLING CODE 4310-33-P